DEPARTMENT OF COMMERCE

International Trade Administration

Certain Softwood Lumber Products From Canada: Initiation of Antidumping and Countervailing Duty Administrative Reviews

AGENCY: Enforcement and Compliance, International Trade Administration, Department of Commerce.

SUMMARY: The Department of Commerce (Commerce) has received requests to conduct administrative reviews of the antidumping and countervailing duty orders on certain softwood lumber products (softwood lumber) from Canada with January anniversary dates. In accordance with Commerce's regulations, we are initiating those administrative reviews.

DATES: Applicable April 1, 2019.

FOR FURTHER INFORMATION CONTACT: Robert Galantucci (AD) and Kristen Johnson (CVD), AD/CVD Operations, Enforcement and Compliance, International Trade Administration, U.S. Department of Commerce, 1401 Constitution Avenue NW, Washington, DC 20230, telephone: (202) 482-2923 and (202) 482-4793, respectively.

SUPPLEMENTARY INFORMATION:

Background

Commerce has received timely requests, in accordance with 19 CFR 351.213(b), for administrative reviews of the antidumping and countervailing duty orders on softwood lumber from Canada with January anniversary dates. All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of the reviews. Parties wishing to submit rebuttal comments should submit those comments five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of the review and will not collapse companies at the respondent selection phase unless there has been a determination to collapse certain companies in a previous segment of the antidumping proceeding (e.g., investigation, administrative review, new shipper review or changed circumstances review). For any company subject to the review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Initiation of Reviews

In accordance with 19 CFR 351.221(c)(1)(i), we are initiating administrative reviews of the following antidumping and countervailing duty orders. We intend to issue the final results of these reviews not later than January 31, 2020.

We request that the companies listed below review the spelling of their company name. If a company name is not accurate (i.e., misspelled or incomplete) or appears more than once with different spelling variations, then please notify Commerce of the company's correct legal name in writing within 30 days after the date of publication of this initiation notice. All submissions must be filed electronically at https://access.trade.gov.

| Period to be reviewed
CANADA: Certain Softwood Lumber Products
A-122-857 | 6/30/17-12/31/18
C-122-858 | 4/28/17-12/31/18
0744822 BC Ltd
1074712 BC Ltd
1074712 BC Ltd./Quadra Cedar
1867 Confederation Log Homes
5214875 Manitoba Ltd
752615 B.C Ltd, Fraserview Remanufacturing Inc, DBA Fraserview Cedar Products
9224-5737 Québec inc. (aka, A.G. Bois)
A & A Trading Ltd
A & D Woodturning
A & H Lumber Services Ltd
A & K Millwork Ltd
A M Cedar Ltd./A.M. Cedar Ltd
A.B. Cedar Shingle Inc
A.B. Cushing Mills Ltd
A.J. Forest Products Ltd
A-1 Trusses Ltd
AAC Woodworking & Manufacturing
Aallcann Wood Suppliers Inc
ABC Lumber
Abfam Enterprises Ltd
Absolute Lumber Products, Ltd
Accurate Cedar Ltd
Acoustic Wood Ltd
Acutruss Industries Ltd
Adam Lumber Inc
Adco Forest Products
Adirondack Wood Supply
Advance Lumber Remanufacturing
Advance Reload Ltd
ADWOOD Manufacturing Ltd./ADWOOD Mfg. Ltd
AFA Forest Products Inc
AG Bois/A.G. Bois/9224-5737 Quebec Inc
AJ Forest Products Ltd
AJIA Canadian Building Systems Inc
AJM International Development Corp./AJM Intl. Development Corp
Alba Pallet Co
Albert Larocque Lumber Ltd
Alberta Pallet Co. Ltd
Alberta Spruce Industries Ltd
Aler Forest Products, Ltd
Alexandria Moulding Inc
All American Forest Products Corp
All Span Building Systems Ltd
All-Fab Building Components Inc./ALLFAB Building Components Inc./Nu-Fab Building Products
Allmac Lumber Sales Ltd
Allmar International
Almand Lumber Mfg. Inc
Almonte Lumber & Truss
Alpa Forest Products Inc
Alpa Lumber Mills Inc
Alpine Forest Products (2001) Ltd
American Bayridge Corp./Bayridge Lumber
American Pacific Wood Products
Amexfor Inc
Anbrook Industries Ltd
Andersen Pacific Forest Products Ltd
Anderson Pacific Forest Products Ltd
Anglo American Cedar Products Ltd
Anglo-American Cedar Products, LTD
Anthony-Domtar Inc
Antrim Cedar Corp
Antrim Cedar Corporation
APacific Lumber Remanufacturing Ltd
Apollo Forest Products Ltd
Apollo Industries Ltd
Aquila Cedar Products, Ltd
Ara Sales Co
Arbec Inc./Arbec Lumber Inc
Arbec Lumber Inc
Arbutus Manufacturing Ltd./Arbutus Mfg. Ltd
Arco Lumber Ltd
Argo Lumber Inc
Ashley Woodworks
Aspen Planers Ltd
Aspen Planers Ltd./Mill & Timber Products Ltd
Atco Structures Ltd
ATCO Wood Products Ltd
Atelier Du Bois St-Laurent/92244904 Quebec Inc
Atlas Group
Atmosphere & Bois NA Inc
Aurora Timberland Wholesale/Hardwood Lumber Inc
AWyatt Marketing Inc
B & B Inc
B & H Woodturning Ltd
B & L Forest Products Ltd
B B Pallets Inc./B.B. Pallets Inc
B&L Forest Products Ltd
B.B. Pallets Inc
B.E. Grein Lumber Ltd
B.S.L. Lumber
B.W. Creative Wood Ind. Ltd
Babine Forest Products Limited
Bakerview Forest Products Inc
Bakerview Forest Products/Pat Power Forest Products Corp./Pemco Power Export & Manufacturing Corp
Balleys Wood Sales LLC
Balmoral Ltée., Cedres
Balmoral Lumber & Millwork Ltd
Barco Materials Handling Ltd./Cherry Forest Products
Bardeaux Acadieville Shingle
Bardobec Inc
Barkley Sound Oar & Paddle
Barrette-Chapais Ltd./Barrette Chapais Ltee
Barrette-Chapais Ltee
BarretteWood Inc
Bartram H.S. Ltd./H.S. Bartram Ltd
Barvi Inc
Bath Mill Inc
Bayridge Lumber & Forest Products Inc
Bayside Framing & Timberfield Roof Truss
BC Custom Timber Products Ltd
BC Lumber Sales
BCF Shake Mill Ltd./B.C.F. Shake Mill
Bear Lumber Ltd
Beaubois Coaticook Inc
Beaufort Forest Products Ltd
Beaver Forest Products
Beere Holdings Ltd./Beere Timber Co
Bel Air Lumber Mills Inc
Beland Produits Forestiers Ltee
Bell & Sons Lumber/Raymond Bell & Sons Lumber
Benoit & Dionne Forest Products Ltd
Benoit & Dionne Forest Products Ltd./Benoit and Dionne Produits Forestiers Ltee
Benoît & Dionne Produits Forestiers Ltée
Bernie McGlynn Lumber
Bernier (Ad) Inc
Best Quality Cedar Products Ltd
Best Quality Cedar Products Ltd./Copper River Shake & Shingle Ltd
Best Quality Cedar Products, Inc
Big Foot Manufacturing Inc
Bill Smith Forest Products
Bishop Lumber Co. Ltd
Black Loon Millworks International Inc
Black Tusk Forest Products Ltd
Blanchet Multi Concept Inc
Blanchette & Blanchette Inc
Blanchette Inc./Bois Carolle
Blue Trail Construction Ltd
Boa-Franc Inc
Boards by George Lumber Co
Boardwalk Enterprises
Bob Inc., Les Produits Forestiers
Bois Aisé de Montréal inc
Bois B S L Inc
Bois Bonsaï inc
Bois Bonsai Inc./Bois Aise de Montreal Inc
Bois Daaquam Inc
Bois Daaquam Inc./Daaquam Lumber Inc
Bois de l'Est FB Inc
Bois D'oeuvre Cedrico Inc
Bois D'oeuvre Cedrico Inc. (aka, Cedrico Lumber Inc.)
Bois D'oeuvres Beaudoin Gauthier Inc./B & G Lumber/Beaudoin Gauthier Inc./Les Bois d'oeuvre Beaudoin Gauthier Inc
Bois et Solutions Marketing SPEC, Inc
Bois Francs Benoit Inc./Les Bois de Parquets Vaucluse Inc./Vaucluse Inc./Les Bois de Parquets
Bois Hunting Inc
Bois Lac Frontiere Inc
Bois Lemay Inc
Bois Mirabel Ltee./Mirabel Ltee., Bois
Bois Poulin Inc., Les/Les Bois Poulin Inc./Bois Poulin Inc. (Les)
Bois Traité S.C./Les Bois Traites/Bois Traites M.G. Inc./Bois Traites (Les)
Bois Weedon
Boisaco
Boisaco Inc./Boisaco
Bois-Aise de Montreal Inc
Boiscarvin Inc
Boiseries Lussier
Boiseries Rousseau Inc./Rousseau Woodworks Inc
Bomat Inc., Materiaux
Borderline Lumber Service
Boscus Canada Inc
Bouchard Projects Ltd
Boucher Bros. Lumber Ltd
Boundary Lumber and Reman Ltd
Box Lake Lumber Products Ltd
BP Wood Ltd
BP Wood/BPWood Ltd
BPWood
BPWood Ltd
Bramwood Forest Inc
Bramwood Forest Inc./Bramwood Lumber Industries
Bridgeside Forest Industries Ltd
Brink Forest Products Ltd
Britannia Woodmoulding Co. Ltd
Britco Structures
Brite Manufacturing Inc
British Columbia Door Co. Ltd
Brown & Rutherford Co. Ltd
Brunswick Valley Lumber Inc
BSL Wood Products
Buchanan Lumber Sales Inc
Burrows Lumber Inc
Burton Cabinets & Custom Doors
Busque & Laflamme Inc
Byrne Road Wholesale Lumber
Byrnexco Inc
C & C Lath Mill Ltd
C & C Wood Products Ltd
C&C Wood Products Ltd
C.A. Spencer Inc
C.J. Cedar Ltd
C.P. Loewen Enterprises Ltd
Cajun Moulding Shoppe Ltd
Caledonia Forest Products
Caledonia Forest Products Inc
Calgary Pallet Ltd
Cambie Cedar Products Ltd
Campbell River Shake & Shingle
Campbell River Shake & Shingle Co., Ltd
Canada Pallet Corp
Canada Wood Specialties Inc
Canadian American Forest Products Ltd
Canadian Antique Lumber Co. Ltd
Canadian Bavarian Millwork & Lumber Ltd
Canadian Engineered Wood Products
Canadian Lumber Co. Ltd
Canadian TimberFrames Ltd
Canadian Walden Log Homes Ltd
Canadian Wood Products
Canadian Wood Products Inc
Canadian Woodenware Mfg., The
Canalog Wood Industries Ltd
Canasia Forest Industries Ltd
Canbar Inc
Can-Cell Industries Inc
Cancom International Trading Ltd
Candor Interior Specialties
Canfor Corporation/Canadian Forest Products, Ltd./Canfor Wood Products Marketing, Ltd
Canusa cedar inc
Canusa Cedar Inc
CanWel Building Materials
Canwel Building Materials Ltd
Canwest Trading Ltd
Canyon Lumber Co. Ltd
Canyon Lumber Company, Ltd
Careau Bois inc
Carlwood Lumber Ltd
Carrier & Begin Inc
Carrier Forest Products Ltd
Carrier Forest Products Ltd./Carrier Lumber Company Ltd
Carrier Lumber Ltd
Carson Lake Lumber Ltd
Carter Forest Products Inc
Cascade Cedar Ltd
Cattermole Timber
Caux et Freres Inc
Cayouette Cabinets
CDS Lumber Product
Cedar City Shake Ltd
Cedar Island Forest Products Ltd
Cedar Solutions & Millworks
Cedar Valley Holdings Ltd
Cedar Valley Milling
CedarCoast Lumber Products
Cedarland Forest Products Ltd
Cedarline Industries, Ltd
Cedaroof Canada Ltd
Cedartone Specialties Ltd
Cedres Balmoral Ltée
Cedres Basques Enr
Cedrico Lumber Inc
Central Alberta Pallet Supply
Central Cedar Ltd
Centurion Lumber Manufacturing Ltd
Centurion Lumber, Ltd
Century Mill Lumber
Chaleur Sawmills Associates
Chaleur Sawmills LP
Chanin (W.G.) Hardwoods Ltd
Channel Original Co. Ltd
Channel-Ex Trading Corp
Channel-ex Trading Corporation
Chasse Inc
Chemainus Forest Products Ltd./Centurion Lumber Manufacturing (1983) Ltd
Cheminis Lumber Inc
Chisholm's (Roslin) Ltd
Choicewood Products Inc
City Lumber & Millwork
City Lumber Sales & Services Ltd
Clair Industrial Development Corp. Ltd
Clareco Industries Ltd
Clarke Group
Claude Forget Inc
Clearbrook Shakes & Shingles
Clermond Hamel Ltée
Clermond Hamel Ltee./Busque & Laflamme Inc
Clyvanor Ltee
Coast Clear Wood—Sundher Timber Products
Coast Clear Wood Ltd
Coast Mountain Cedar Products Ltd
Cobodex Lumber (1995) Inc
Coldstream Lumber Remanufacturing Ltd
Coleman Road Shingle Ltd
Colonial Fence Manufacturing Ltd
Colonial Log Mills Ltd
Colonial Wood Packaging Inc
Columbia Mills Ltd
Commonwealth Plywood Co. Ltd
Comox Valley Shakes Ltd
Compos-A-Tron Manufacturing Inc
Confederate Shake & Shingle Ltd
Conifex Fibre Marketing Inc
Conifex Inc./Conifex Fibre Marketing Inc
Cooper Lumber Ltd
Coopérative des Travailleurs de la Scierie
Copper Mountain Cedar Products Ltd
Coté Ltée., Alexandre/Cote (Alexandre) Ltée
Coulson Manufacturing Ltd
Coulter Lumber Sales & Services Ltd
Country Lumber Ltd
Country Wood
Cowichan Lumber Ltd
Craftsman Panel Cutters Ltd
Crawford Creek Lumber Co. Ltd
Creations Vie Bois Inc
Crestview Mills
Crestwood International Industries Ltd
CS Manufacturing Inc., dba Cedarshed
CS Manufacturing Inc./Cedarshed Industrial (1992) Inc
Curtis Lumber Co., Ltd
Custom Log Homes Ltd
Cut Rite Lumber Ltd
Cutler Forest Products
CWP—Industriel inc
CWP—Industriel Inc./CWP—Montreal Inc
CWP—Montréal inc
D & D Pallets, Ltd
D & D Wood Products Ltd
D & S Calver Lumber Ltd
D V Hardwoods
D&G Forest Products Ltd
D&G Produits Forestiers Ltée./Les Produits Forestiers D&G Ltee./Produits Forestiers D & G Ltee
Daaquam Lumber Ltd
Daizen Joinery Ltd
Dakeryn Industries Ltd
Dament & Charles Lumber Manufacturing Ltd
Danfor Export Ltd
Davey Lumber
Davron Forest Products Ltd
Deacoff Bros. Enterprises Ltd
Decawood Industries Inc
Decker Lake Forest Products
Decker Lake Forest Products Ltd
Decor Cabinets Ltd
Deep Cove Forest Products Inc
Delco Forest Products
Delco Forest Products Ltd
Delta Cedar
Delta Cedar Products Ltd
Delta Cedar Specialties Ltd
Demens Brothers Lumber Co. Ltd
Demxx Deconstruction Inc
Devon Lumber Co. Ltd
Devon Mills Ltd
DH Manufacturing Inc
Dhaliwal Cedar Ltd
Dick's Lumber & Building Supplies Ltd
Direct Cedar Supplies Ltd
Distribution Rioux
Dollar Saver Lumber Ltd
Domexport Inc
Domtar Inc
Doralie-Maroy Inc
Dorval Timber Inc
Double R Building Products Ltd
Doubletree Forest Products
Doubletree Forest Products Ltd
Downie Timber Ltd
Downie Timber Ltd./Selkirk Specialty Wood Ltd
Driftwood Cedar
Drummond Lumber
DS Timber Mills Ltd
Dubreuil Forest Products Ltd
Duhamel Mill/Armand Duhamel & Fils Inc
Duke Point Reman Ltd
Dungey R J & Sons Ltd
Dunkley Lumber Ltd
Duplessis Ltée. Leopold/Leopold Duplessis Ltee
Dynamic Forest Products Inc
Dynamic Forest Products Ltd
DZD Hardwood Export Inc
E and A Sales
EACOM Timber Corp./Anthony EACOM Inc
EACOM Timber Corporation
Eagle River Industries Inc
East Coast Building Materials Ltd
East Fraser Fiber Co. Ltd
East Fraser Fiber Co. Ltd./East Fraser Fibre Co. Ltd
Ébénisterie Beaubois Ltée
Eberhard's Manufacturing Inc
Econobois Enr
Ed Bobocel Lumber (1993) Ltd
Edge Grain Cedar
Edgewood Forest Products Inc
Edgewood Lumber Ltd
Edson Forest Products/Sundance Forest Products
Edwards W.C
Elite Trimworks Corp
Elk Trading Co. Ltd
Ellen Lumber Ltd
Elmira Wood Products
Elykwood Forest Products Ltd
Epic Truss Systems Ltd
ER Probyn Export Ltd
ER Probyn Export Ltd./ER Probyn Ltd
Eric Goguen & Sons Ltd
Erie Flooring & Wood Products
Errington Cedar Products
Evan's Enterprises
Evans-Tedham Lumber Ltd
Evergreen Empire Mills Inc
Evergreen Lumber Inc
Evergreen Specialties Ltd
Everwood Trading Ltd
Exulon Forest Products
Exxium Group
Fairway Lumber Ltd
Falcon Lumber Ltd
Faulkener Wood Specialties Ltd
Fawcett Lumber Co
Federated Co-operatives Ltd
Felix Huard Inc
FinishWell Group/F.W. Mouldings
Finmac Lumber Ltd
Finnforest Canada
Flavelle Mill Co
Fontaine Inc./J.A. Fontaine & Fils
Foothills Forest Products Inc
Foresbec Inc
Forex Log & Lumber Ltd
Forexam LtTe (Les Produits Forestiers)
Fornebu Lumber Co. Ltd
Forwest Wood Specialties/FWV Industries Inc
Forwood Forest Products Inc
Fraser Bay Industries Inc
Fraser Cedar Products Ltd
Fraser Papers Inc
Fraser Specialty Products
Fraser Specialty Products Ltd
Fraserview Cedar Products
Fraserview Cedar Products/Fraserview Remanufacturing Inc
Fraserwood Industries Ltd
Freymond Lumber Ltd
Furtado Forest Products Ltd
Futura Forest Products Ltd
G & R Cedar Ltd
G L Sawmill Ltd./G.L. Mill Ltd
G&R Cedar Ltd
G.A. Grier (1991) Inc
Gagnon Bois Industriel
Galaxy Pallet Ltd
Gallant Enterprises Ltd
Galloway Lumber Co. Ltd
Galloway Lumber Company Ltd
Gang-Nail Trusses & Building Components
Gaston Cellard Inc
Gaylord Forest Products Ltd
Georgian Bay Forest Products Ltd
Gerard Crete & Fils Inc
Gestofor Inc
Gibeault & Fils Ltée
Gienow Building Products Ltd
Gilbert Smith Forest Products Ltd
Gillies Lumber Inc
Gillwood Remanufacturing Inc./Uneeda Wood Products
Glandell Enterprises Inc
Glenmore Millwork
Globe Lumber Supply & Logistics Ltd
Goat Lake Forest Products
Goat Lake Forest Products Ltd
Goguen Lumber
Gold Band Shake & Shingle Ltd
Goldband Shake & Shingle Ltd
Golden Ears Shingle
Golden Ears Shingle Ltd
Golden Wood Import & Export Inc
Goldwood Industries Ltd
Goldwood Industries Ltd./Universal Lumber Sales Ltd
Goodfellow Inc
GoodWOOD Forest Products Corp
Gorman Bros. Lumber Ltd
Granules L.G
Great Lakes MSR Lumber Ltd
Great Northern Remanufacturing
Green Tree Fencing Supplies Ltd
Greendale Industries Inc
Greenwood Forest Products Ltd
Griff Building Supplies Ltd
Groleau Inc
Groupe Bocenor/Bonneville Windows & Doors
Groupe Crête Chertsey
Groupe Crête division St-Faustin
Groupe Crete/Groupe Crete division St. Faustin/Groupe Crete Chertsey
Groupe Forestra
Groupe Lebel inc
Groupe Lebel Inc./Groupe Lebel (2004) Inc./Traitel Ltée., Bois
Groupe Lebel/Rideau Forest Products
Groupe Lignarex inc
Groupe Savoie Inc
Grove Cedar Ltd
Grove Lumber & Manufacturing Ltd
Gulick Forest Products Ltd
H.J. Crabbe & Sons Ltd
Haida Forest Products
Haida Forest Products Ltd
Hainsville Mill Ltd
Halland Farms Inc
Halo Sawmill Ltd
Hamill Creek Timber/Hamill Creek Timberwrights Inc
Hampton Lumber Mills—Canada, Ltd./Babine Forest Products/Decker Lake Forest Products Ltd
Hanford Lumber Ltd
Hanson's Sawmill Inc
Hanwa Canada Corp
Harkerson BC Wholesale Lumber Ltd
Harrison Cedar Products
Harry Freeman & Son Ltd
Hauer Brothers Lumber Ltd
Henri Radermaker & Fils Inc
Henry Vasseur Custom Planing Ltd
Henzel Lumber Ltd
Herb Shaw & Sons Ltd
Hermitage Forest Products
Highland Block Sort
Hodgson Brothers Lumber
Home Lumber Inc
Hornepayne Lumber LP
Howe Sound Timber Products Inc
Hudson Mitchell & Sons Lumber Inc./HMS Lumber Inc
Hughes Lumber Specialties Inc
Huron Timber Co
Hy Mark Wood Products Inc
Hyak Specialty Wood Products
I J Windows & Doors Ltd
Imperial Cedar Products, Ltd
Imperial Shake Co
Imperial Shake Co. Ltd
Independent Building Materials Dist
Independent Building Materials Distribution Inc
Independent Lumber Dealers Cooperative
Industrial Hardwood Products Ltd
Industries Norpen Inc./Norpen Industries Inc
Industries Parent Inc./Groupe Rémabec
Interbois, Inc
Interfor Corp
Interfor Corporation
Interforest Lumber Inc
Interior Wood Ltd
International Lumber Inc
Interpro Forest Products
IRLY Distributors Ltd
Iroquois Enterprises
Island Cedar Products Ltd
Island Precision Manufacturing Ltd
Ivis Wood Products Ltd
Ivor Forest Products Ltd
J & D Shake & Cedar Mill Ltd
J & G Log Works Ltd
J&G Log Works Ltd
J&G Logworks, Ltd
J.D. Irving, Limited
J.H. Huscroft Ltd
J.M. Champeau Inc., Les Enterprises
J.W. Jamer Ltd
Jager Building Systems
James Sparkes & Sons Ltd
Jan Woodland (2001) inc
Jan Woodland (2001) Inc./Jan Woodland 2001 Inc
Jasco Forest Products Ltd
Jasper Millwork Ltd
Jazz Forest Products Ltd
Jean Riopel Inc
Jhajj Lumber Corp
Jhajj Lumber Corporation
Joe Kozek Mill Ltd
Jointfor
Jones Percy & Sons Ltd
Jones Ties & Piles
Jude & Lyne, Les Produits Forestier
Julius Becker Forest Ltd
Junction Lumber Products Inc
Juste Du Pin
K C Doors Ltd
K P Wood Ltd
Kalesnikoff Lumber Co. Ltd
Kan Wood, Ltd
Kanaka Creek Pole Co. Ltd./Stella-Jones Inc
Karlite Manufacturing
Kebois Ltd
Kebois Ltee/Ltd
Kelfor Industries Ltd
Kenomee Log Homes Ltd
Kenora Forest Products Ltd./Prendiville Industries Ltd
Kent Trusses Ltd
Kenwood Lumber Ltd
Kermode Forest Products Ltd./Richelieu Hardware Canada Ltd./Teamwood Distribution
Keystone Forest Products Ltd
Keystone Timber Ltd
Keywood Timber Products Ltd
Kingsey Inc., Scierie
Kitwanga Lumber Co. Ltd
KLP Shake & Shingle
Kodiak Forest Products Ltd
Kootenay Innovative Wood Ltd
Kootur Lumber Mill
Kott Lumber Co.
Kotyk Lumber Ltd
Kruger Inc.—Scierie Parent
Kurian Forest Products Ltd
L & M Lumber Co. Ltd
L & M Wood Products
L.P.M. Inc., Moulins (Les)
La Crete Sawmills Ltd
Lafontaine Lumber Inc
Lahaie Lumber Ltd
Lake Country Log Homes
Lakeland Mills Ltd
Lakeside Timber
Lamontagne, Industries Bois
Lanark Cedar
Landmark Truss & Lumber Inc
Landrienne Inc./Scierie Landrienne
Landry (Robert) & Fils, Industries
Langelier Ltee., Bois
Langevin Forest Ltee.
Langevin Forest Products Inc
Lasertrim Custom Millwork & Mouldings
Lattes Waska Laths Inc
Lauzon Distinctive Hardwood Flooring
Lauzon Forest Resources
Lavern Heideman & Sons Ltd
Lebel Cambium Inc
Lecours Lumber Co. Limited
Lecours Lumber Co., Ltd
Ledwidge Lumber Co. Ltd
Legare Industries Ltd
Leger & Fils Inc., Bois
Leggett & Platt/LeggettWood
Leisure Lumber Ltd
Leisure Lumber Ltd./0995192 BC Ltd
Lemire Lumber Co. Inc
Lennox Snow Fence Co.
Leonard Ellen Canada (1991) Inc./G.A. Grier (1991) Inc
Leptick Mill Ltd
Les Bois d'oeuvre Beaudoin Gauthier inc
Les Bois Martek Inc./Bois Martek Inc./Les Bois Martek Lumber Inc
Les Bois Martek Lumber Inc
Les Bois Traités M.G. Inc
Les Boiseries du Saint-Laurent Inc./Boiseries du Saint-Laurent Inc. (Les)
Les Boiseries du St-Laurent
Les Chantiers de Chibougamau ltd
Les Chantiers de Chibougamau Ltee./Chantiers de Chibougamau Ltee. (Les)/Nordic Engineered Wood
Les Chantiers de Chibougamau Ltee./Les Chantiers de Chibougamau Ltd
Les Industries de Bois St-Raymond Ltee./Industries de Bois St-Raymond Ltee. (Les)
Les Industries Picard et Poulin Inc./Picard Et Poulin
Les Manufacturiers Warwick Ltd./Warwick Ltd., Les Manufacturiers
Les Manufacturiers Warwick Ltee
Les Produits Forestiers Bellerive-Ka'N'Enda Inc./Produits Forestiers Bellerive-Ka'N'Enda Inc., Les
Les Produits Forestiers D&G Ltee
Les Produits Forestiers Dube Inc./Produits Forestiers Dube Inc., Les
Leslie Forest Products
Leslie Forest Products Ltd
Lignarex Inc./Group Lignarex Inc./Careau Bois Inc
Lignum Forest Products LLP
Lindal Cedar Homes Ltd
Linde Brothers Lumber Ltd
Linwood Homes
Linwood Homes Ltd
Liskeard Lumber Ltd
Little John Enterprises Ltd
Little's Lumber Ltd
Liverance Lumber
Logic Lumber
Lois Lumber Ltd./Goat Lake Forest Products
Lone Star Lumber
Long Hoh Enterprises Canada Ltd
Longhouse Trading Co. Ltd
Longlac Lumber Inc
Low Grade Lumber
Lulumco Inc
Lulumco inc
Lumber King Building Material Ltd
LumberLine Inc
Lumnpulse Inc
Luxor Industrial Products Co Ltd
Lyle Forest Products Ltd
M&K Mills Ltd
M.F. Bernard Inc
M.W. Hunter Lumber Ltd
MacKenzie Sawmill Ltd
Madawaska Doors
Magnum Forest Products
Magnum Forest Products, Ltd
Magwood Lumber/PM Lumber Co
Maibec inc
Maibec Inc./Maibec Industries Inc
Mailhot Inc
Mainland Sawmill Ltd
Manitou Forest Products Ltd
Manu-Fab Building Components Ltd
Maple Ridge Truss
Marathon Forest Products Ltd
Marcel Lauzon Inc
MarDan Enterprises
Marine Way Industries Inc
Maritime Lumber Ltd
Marshall Lumber
Martek (1992) Inc., Les Bois
Marumi Canada Lumber Ltd
Marwin Industries Inc
Marwood Ltd
Masse et D'Amours Inc., Industries
Master Grade Instrument Materials Inc
Materiaux Blanchet Inc
Matsqui Management and Consulting Services Ltd., dba Canadian Cedar Roofing Depot
Maurer Construction Ltd
Max Meilleur et Fils Ltée
Maxi-Foret
Maxwood Lumber Ltd
Mayfair Lumber Sales Ltd
McDonald Ranch & Lumber Ltd
McFadden Hardwood & Hardware Ltd
McIlveen Lumber Industries (Alta) Ltd
McKenzie Lumber Inc
McKillican Canadian Inc
McLean Lumber Sales Alberta Ltd
McLeod Lake Indian Band
McRae Lumber Ltd
Meadow Creek Cedar Ltd
Medicine Lodge Timber Products Ltd
Meeker Lumber Ltd
Megaforex Industries
Meristem Enterprises Ltd
Merit Kitchens
Metrie Canada Ltd
Meunier Lumber Co. Ltd
Mid America Lumber Inc
Mid Canada Millwork Ltd
Mid Valley Lumber Specialties, Ltd
Midway Lumber Mills Ltd
Mike Gogo Cedar Products
Mill & Timber Products Ltd
Mill and Timber Products Ltd
Millar Western Forest Products Ltd
Millenium Lumber
Millinear Lumber
Miradas Inc., Produits Forestiers
Miramichi Timber Frames
Mirax Lumber
Mitek Canada Inc
Mitsui & Co. (Canada) Ltd
Mitsui Homes Canada Inc
Mobilier Rustique (Beauce) Inc
Moen Lumber
Moggie Valley Timber Inc
Moisan & Morasse Inc
Moisan (Eloi) Inc
Mondor Lumber Inc
Montauban Inc
Monterra Lumber Mills
Moore Log and Timber Homes
Moreland, Adam
Moricetown Band Development LP
Morwood Forest Products
Moseley Lumber Ltd., A.L
Moulures Hudon & Fils Inc
Mountain View Specialty Products & Reload Ltd
Mountain Voice Woodsounds
MP Atlantic Wood Ltd
Multicedre Itee
Murray Bros. Lumber Co. Ltd
Muskoka Timber Mills
N.M.V. Lumber Ltd./NMV Lumber Ltd
Nagaard Mills Ltd
Nakina Lumber Inc
Natal Forest Products Ltd
National Forest Products Ltd
Natural Trade Ltd
Nechako Lumber Co. Ltd
Nederman Logistics North America
New Future Lumber Ltd
New West Lumber
Newcastle Lumber Co. Inc
Newcastle Lumber Co./Miramichi Lumber Products
Nice International Canada Corp
Nicholson and Cates Ltd
Nicholson and Cates Ltd./Nicholson Manufacturing Ltd
Nicholson and Cates Ltd./Wesont Lumber
Nickel Lake Lumber
Nickel Lake Lumber/531322 Ontario Ltd
Nikolai Manufacturing Inc
Nobel Custom Cut Ltd
Nor-Can Post and Pole
Nordex Inc., Bois
Nordic Structures
Norsask Forest Products Limited Partnership
NorSask Forest Products Ltd. Partner/Norsask Forest Products Inc
North American Crating
North American Forest Products, Ltd
North American Hardwoods Ltd
North American Wood Treating Corp
North Enderby Timber Ltd
North Enderby Timber Ltd./Richwood Fencing
North Mitchell Lumber Co. Ltd
North of 50
North River Log Homes
North Star Planing Co. Ltd
Northcoast Building Products Ltd
Northern Wood
Northland Corp
Northland Forest Products Ltd
Nose Creek Forest Products Corp
Nostalgic Wood
Notch Hill Wood Door & Millwork
Nu-Forest Products (Canada) Inc
Odorizzi Lumber Co. Ltd
Okanagan Door & Window Sales Inc
Olav Haavaldsrud Timber Co./Hornepayne Lumber
Old Country Wood Turning Ltd
Old Yale Log Homes
Olympic Industries Inc-Reman Code
Olympic Industries ULC
Olympic Industries ULC-Reman
Olympic Industries ULC-Reman Code
Olympic Industries, Inc
Ontario Hardwood Products Ltd
Optibois/Precibois Inc
Oregon Canadian Forest Products
Ornamental Moulding Co.
Ospika Lath & Precut
Outdoor Living Mfg. Ltd
Oyama Forest Products Inc
P&E Enterprises
P.F. Inc., Industries/Industries P.F. Inc
P.G. Hardwood Flooring Inc
P.J. White Hardwoods Ltd
Pac-Deck Wood Specialties Ltd
Pacific Cedar (Coleman Road Shingle Ltd.)
Pacific Chalet Ltd
Pacific Coast Cedar Products Ltd
Pacific Pallet, Ltd
Pacific Western Wood Works Ltd
Pacifica Forest Products Inc
Pal Lumber Co
Pallan Timber Products (2000) Ltd
Pallet Source Inc
Palliser Lumber Sales Ltd
Panabode Remanufacturing Ltd
Panwood Global Inc
Paragon Laminated Wood Products
Paragon Wood Products
Parallel Wood Products Ltd
Park County Lumber Manufacturing Ltd
Pastway Planing Ltd
Pat Power Forest Products Corp
Pat Power Forest Products Corporation
Patrick Lumber Co
Pattar Cedar Products Ltd
Paul Vallee, Inc
Paulcan Enterprises Ltd
Paul's Mill & Planer
PBF/Produits de Bois
Peacock Lumber Ltd
Peavine Lumber
Peel Lumber and Trusses Inc
Peerless Forest Products
Pepe Millworks Ltd
Perfect-Bois Inc
Perron Inc., Industries
Peter Angus Forest Products Ltd
Peter Rebus Lumber Sales Ltd
Peter Thomson & Sons Inc
Petryk Forest Products Ltd
Pexim Enterprises Inc
Phoenix Forest Products Inc
Pianos Bolduc Inc./Les Pianos Andre Bolduc Inc
Pine Ideas Ltd
Pine Profiles Ltd
Pineseed Forest Products Ltd
Pioneer Log Homes of BC
Pioneer Pallet & Lumber Ltd
Pioneer Pallet and Lumber Ltd
Pioneer Palley and Lumber
Plateau Forest Prod Co. Yarrow
PLCL Holdings Inc./Coastal Cedar Direct
Pleasant Valley Remanufacturing Ltd
Poirier (Rosario) Inc
Pollard Windows Inc
Porcupine Wood Products Ltd
Port McNeill Shake & Shingle
PortBec Forest Products Ltd
Portelance Lumber Capreol Ltd
Portelance Lumber Inc., Jean L
Porter Lumber Ltd
Potvin & Bouchard Inc
Power Wood Corp
Powerwood
Prairie Barnwood
Prairie Cedar Products
Prairie Forest Products Ltd
Precision Cedar Products Corp
Precision Lumber Products Inc
Precut International C L Inc
Premier Wood Products Inc
Premium Cedar Products Ltd./Watkins Mills Ltd./Watkins Sawmills Ltd
Prendiville Industries Ltd. (aka, Kenora Forest Products)
Prestige Homes
Preverco Inc
Princeton Lumber Inc
Pristine Log And Timber Ltd
Pro Folia Mill Ltd./Commonwealth Plywood Co. Ltd
Pro-bois Andre Rousseau
Probyn Group
Produits Forestiers D.G. Ltée
Produits Forestiers KGB Enr
Produits Forestiers La Tuque Inc
Produits Forestiers Mauricie
Produits Forestiers Petit Paris
Produits Forestiers Temrex, s.e.c
Produits forestiers Temrex, s.e.c
Produits Matra Inc
Prolam
Promobois G.D.S. Inc
Promobois G.D.S. inc
Quadra Island Forest Products Ltd
Quadra Wood Products Ltd
Quality Hardwoods Ltd
R.L. Palmer Manufacturing Ltd
Rabotage Lemay Inc
Raintree Lumber Specialties Ltd
Ratcliff Forest Products Inc
Rayonier A.M. Canada GP
Redtree Cedar Products Ltd
Rembos Inc
Rene Bernard Inc
Resolute FP Canada Inc./Resolute Forest Products Inc
Richard Lutes Cedar Inc
Richard Ward Lumber Co
Ridge Cedar Ltd
Ridgeline Forest Products
Ridgetimber Trading Inc
Ridgewood Industries Ltd
Rielly Industrial Lumber Inc
Rielly Lumber Inc
Riemer Contracting Ltd
River City Remanufacturing
Riverside Shingle Products
Riverwood Industries Ltd
Robert Windows
Rockett Lumber & Building Supplies
Rocky Mountain Log Homes
Rocky Wood Preservers Ltd
Rojac Enterprises
Roland Boulanger & Cie Ltee
Roland Lefebvre & Fils Inc
Rosko Forestry Operations
Rouck Bros. Mill Ltd
Roxing Enterprise Inc
S & K Cedar Products Ltd
S & R Mills Ltd
S & W Forest Products Ltd
S&R Sawmills Ltd
S&W Forest Products
S&W Forest Products Ltd
San Group Inc
San Industries Ltd
Saran Cedar Ltd
Saskatchewan Abilities Council
Saskatoon Building Supplies
Saskatoon Pallet Ltd
Sask-Can Wood Specialties Inc
Satin Finish Hardwood Flooring
Sault Forest Products Ltd
Sawarne Lumber Co. Ltd
Sawarne Lumber Co., Ltd./Sawarne Lumber Co. Ltd
Sawarne Lumber Company Ltd
SBC Inc./Specialiste Du Bardeau de Cedre Inc
Schmid Industries Ltd
Scierie Adrien Arseneault Ltd
Scierie Alexandre Lemay & Fils Inc
Scierie Arbotek Inc
Scierie Gaston Morin Inc
Scierie Gauthier Ltée
Scierie Girard Inc
Scierie Lac St-Jean Inc
Scierie Leduc/Papiers Stadacona
Scierie Martel Ltée
Scierie Norbois Inc
Scierie Rivest Inc
Scierie Ste-Irene Ltee
Scierie St-Elzear
Scierie St‐Michel inc
Scierie St-Michel Inc
Scierie Tech Inc
Scierie West Brome Inc
Scotsburn Lumber Co. Ltd
Scott Lumber
Scottywood Corp
Scouten White Cedar Inc
Sechoir des Bois du Lac Vert Inc
Sechoirs de Beauce Inc
Seel Forest Products Ltd
Sefina Industries Ltd
Selkirk Remanufacturing Ltd
Serpentine Cedar Ltd
Serpentine Cedar Roofing Ltd
Services Boismax Inc
Sexton Lumber Co. Ltd
Shannon Lumber
Shawood Lumber Inc
Shy's Forest Prod Inc
Sigurdson Brothers Logging Co. Ltd./Sigurdson Forest Products Ltd
Sigurdson Forest Products Ltd
Silvaris Corp
Silvaris Corporation
Silver Creek Premium Products Ltd
Silver Creek Premium Products Ltd./Matsqui Management and Consulting Services Ltd., dba Canadian Cedar Roofing Depot
Silvermere Forest Products
Simon Lussier Ltd
Sinclar Enterprises Ltd
Sinclar Group Forest Products Ltd
Sitka Forest Products, Inc
Skagit Industries Ltd
Skaha Forest Products Ltd
Skana Forest Products Ltd
Skeena Sawmills Ltd
Snowcap Lumber Ltd
Soanbert Corp
Solid Wood Products
Sound Spars Enterprise Ltd
Source Forest Products Ltd
South Beach Trading Inc
South River Planing Mills Inc
Southcoast Millworks
South-East Forest Products Ltd
Southwest Forest Products Ltd
Specialiste du Bardeau de Cedre Inc
SPF Precut Lumber
Spray Lake Sawmills (1980) Ltd
Springer Creek Forest Products
Springhill Lumber Wholesale Ltd
Spruce Products Ltd
Spruce Top Lumber Sales Ltd
Spruceland Millworks Inc
Spruceland Millworks, Ltd
St. Boniface Pallet Co. Ltd
St. Jean Lumber (1984) Ltd
Standard Building Supplies Ltd
Stanley Knight Ltd
Stave River Industries Ltd
Stave River Trading
Stella-Jones Inc
Stilewood International Manufacturing Ltd
Still Creek Forest Products Ltd
Stork Craft Manufacturing Inc./Canwood Furniture Inc
Strachan Forest Products
Structurecraft Builders Inc
Structurlam Products Ltd
Sumitomo Canada Ltd
Sunbury Cedar
Suncoast Lumber & Milling
Sundher Timber Products
Supply-All Mfg Inc
Surelog Homes Ltd
Surewood Forest Products/Surewood Forest Industries
Surrey Cedar Ltd
Surrey Millwork (1990) Ltd
Swan Industries
Swift Sure Milling and Moulding
Swiftwood Forest Products Ltd
SWP Industries Inc
T & H Forest Industries Ltd
T.G. Wood Products, Ltd
T.P. Downey & Sons Ltd
Taan Forest Products
Taiga Building Products Ltd
Talan Lumber Products Ltd
Tall Pine Timber Co. Ltd
Tall Tree Lumber Co
Tall Tree Lumber Company
Tamarack Lumber Inc
Tan-Wood Forest Products
Taylor Mill
Teal Cedar Products Ltd
Teal Cedar Products Ltd./J.S. Jones Timber/Stag Timber Ltd
Teal-Jones Group
Tembec Inc
Tembec Inc./Rayonier A.M. Canada GP
Temlam Inc./Jager Building Systems Inc
Temrex Produits Forestiers s.e.c
Terminal Forest Products
Terminal Forest Products Ltd
TF Mill Inc
TFL Forest Ltd
The Teal Jones Group
The Teal-Jones Group
The Wood Source Inc
Thermal Wood
Thomas J. Neuman Ltd
Thompson Hardwoods of Thedford Ltd
Thomson Bros. Lumber Co. Ltd
Timber Specialties
Timber Systems Ltd
TimberWest Forest Corp
Timberworld Forest Products
Timbre Tonewood
Timeu Forest Products Ltd
Titan Ridge Forest Products
TLB Forest Products Inc
Tl'oh Forest Products Inc
Tobin Lake Farms Ltd
Tolko Industries Ltd./Tolko Marketing and Sales Ltd./Gilbert Smith Forest Products Ltd
Top Quality Lumber
Topco Pallet Recycling
Townsend Lumber Inc
Toyoshima Trading
Trans North Timber
Transco Mills Ltd
Transformation de Bois CBV Inc
Trans-Pac Resources Ltd
Trans-Pacific Trading Ltd
Tree-City Lumber & Plywood Inc
Treeline Wood Products Ltd
Trendwood Ltd
Trent Timber Treating Ltd
Triad Forest Products Ltd
Tri-Cept Industries Inc
Trimlite ULC
Trout Creek Enterprises
Trout Creek Planing Mill Ltd
TRS Components Ltd
Tsain Ko Forest Products
Twin River Lumber
Twin Rivers Paper Co
Twin Rivers Paper Co. Inc
Two by Four Lumber Sales Ltd
Tyee Timber Products Ltd
UBM Forest Products Ltd
UCS Forest Group
Unibest Wood Products
Universal Inc./Produits Forestiers/Universal Forest Products of Canada, Inc
Universal Lumber Sales Ltd
UPM Kymmene Miramichi Inc
Upper Canada Forest Products Ltd
Usihome Inc
Usine Sartigan Inc
V & R Sawing
Vaagen Bros. Lumber Inc./Vaagen Fibre Canada, ULC/Vaagen Brothers Lumber Inc
Vaagen Fibre Canada, ULC
Valley Cedar 2 ULC
Valley Kiln & Pattern/Vancouver Specialty Cedar Products
Valley Truss Ltd
Vancouver Island Shingle, Ltd
Vancouver Specialty Cedar Products
Vancouver Specialty Cedar Products Ltd
Vancouver Specialty Products Ltd
Vanderhoof Specialty Wood
Vanderwall Contractors (1971) Ltd
Velcan Forest Products Inc
Vernon Forest Products Ltd
Vexco Veneer Inc
Vimaw Lumber Inc
Vintage Woodworks
Visscher Lumber Inc
W.I. Woodtone Industries Inc
W.K. Lumber Ltd
Wadlegger Logging & Construction Ltd
Wainfleet Box & Pallet
Waldun Forest Product Sales Ltd
Waldun Forest Products Ltd
Waldun Forest Products Sales Ltd./The Waldun Group
Waltham Inc
Watford Roof Truss Ltd
Watkins Sawmills Ltd
Waugh's Woods Ltd
Welco Lumber Corp
West Bay Forest Products Ltd
West Bay Forest Products Ltd./West Bay Forest Products & Manufacturing Ltd
West Bros. Frame & Chair (1976) Inc
West Built Homes
West Creek Panel Products
West Fraser Mills Ltd./West Fraser Timber Co. Ltd./100 Mile Lumber
West Hill Lumber Ltd
West Wind Hardwood Inc
Western Archrib
Western Forest Products
Western Forest Products Inc
Western Lumber Sales Limited
Western Lumber Sales Ltd
Western Pallet & Bin
Western Wood Preservers Ltd
Westex Timber Mills Ltd
Westlam Industries Ltd
Westmark Products Ltd
Westminster Industries Ltd
Weston Forest Corp./Neos Forest Inc
Weston Forest Group/Weston Forest Products Inc
Weston Forest Products Inc
Westree Custom Cedar Products Inc
Westrend Exteriors Inc
West-Wood Industries
Westwood Wholesale Lumber Ltd
Weyerhaeuser Co
White River Forest Products Ltd
White-Wood Forest Products
Wilfrid Paquet & Fils Ltee
Willard G. Hallman Lumber Ltd
Williamsburg Wood & Garden
Winfield Wood & Lath Ltd
Winnipeg Forest Products Inc
Winton Global/Spruce Capital Homes Ltd
Winton Homes Ltd
Woodex International Inc
Woodland Supply & Manufacturing Co
Woodline Forest Products Ltd
Woodstock Forest Products
Woodstock Forest Products Inc
Woodtone Building Products/Woodtone Industries
Woodtone Specialities Inc./Synergy Pacific Wood Solutions ULC
Woodtone Specialties Inc
World Wood Corp./Woodcorp
Wynndel Box & Lumber Co. Ltd
Yarrow Wood Ltd
Yellowhead Wood Products Inc
Zavisha Mills Ltd
Zelensky Brothers La Ronge Mill
Zytech Building
CANADA: Certain Softwood Lumber Products
C-122-858 | 4/28/17-12/31/18
L'Atelier de Réadaptation au travil de Beauce Inc³

Gap Period Liquidation

For the first administrative review of any order, there will be no assessment of antidumping or countervailing duties on entries of subject merchandise entered, or withdrawn from warehouse, for consumption during the relevant provisional-measures “gap” period of the order, if such a gap period is applicable to the POR.

³ The other companies, for which a review of the countervailing duty order is requested, are listed separately above, because those companies are subject to both the antidumping and countervailing duty administrative reviews. This company is subject only to the countervailing duty administrative review.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁴ Parties are hereby reminded that revised certification requirements are in effect for company/government officials as well as their representatives. All segments of any antidumping duty or countervailing duty proceedings initiated on or after August 16, 2013, should use the formats for the revised certifications provided at the end of the Final Rule.⁵ Commerce intends to reject factual submissions in any proceeding segments if the submitting party does not comply with applicable revised certification requirements.

⁴ See section 782(b) of the Act.

⁵ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) quantity and value questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: March 27, 2019.
James Maeder,
Associate Deputy Assistant Secretary for Antidumping and Countervailing Duty Operations performing the duties of Deputy Assistant Secretary for Antidumping and Countervailing Duty Operations.

[FR Doc. 2019-06221 Filed 3-29-19; 8:45 am]

BILLING CODE 3510-DS-P